DEPARTMENT OF THE TREASURY

Submission for OMB Review; Comment Request

December 18, 2008.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 28, 2009 to be assured of consideration.

Bureau of Public Debt (BPD)

OMB Number: 1535-0091.

Type of Review: Extension.

Title: Regulations Governing U.S. Treasury Securities—State and Local Government Series.

Forms: PD F 1849.

Description: This collection is required by regulations governing U.S. Treasury Securities—State and Local Government Series.

Respondents: State, local, or tribal governments.

Estimated Total Burden Hours: 542 hours.

Clearance Officer: Brian Lallemont (304) 480-8150, Bureau of the Public Debt, 200 Third Street, Parkersburg, West Virginia 26106.

OMB Reviewer: Nick Fraser (202) 395-5887, Office of Management and Budget, Room 10235, New Executive Office Building, Washington, DC 20503.

Robert Dahl,
Treasury PRA Clearance Officer.

[FR Doc. E8-30740 Filed 12-24-08; 8:45 am]

BILLING CODE 4810-39-P